SECURITIES AND EXCHANGE COMMISSION

Sunshine Act Meeting

Federal Register Citation of Previous Announcement: [67 FR 20846, April 26, 2002].

Status: Open Meeting/Closed Meeting.

Place: 450 Fifth Street, NW., Washington, DC.

Date and Time of Previously Announced Meeting: April 30, 2002, at 10:00 a.m. and Wednesday, May 1, 2002, at 10:00 a.m.

Change in the Meeting: Deletion of Item/Additional Items.

The following item will not be considered at the open meeting scheduled for Tuesday, April 30, 2002:

Consideration of whether to issue an exemptive order under section 36 of the Exchange Act, which would permit broker-dealers to pledge a wider range of collateral when entering into borrowing transactions governed by paragraph (b)(3) of Rule 15c3-3. The provisions in this paragraph apply when broker-dealers borrow fully paid and excess margin securities from customers. The conditions for such borrowings include the requirement that broker-dealers provide customers with full collateral consisting of certain specified financial instruments or cash. The order would expand the types of collateral that could be provided, subject to certain conditions in addition to those required in the Rule. The Commission also will not consider whether to delegate its authority to issue such orders regarding permissible collateral to the Director of the Division of Market Regulation.

The following items have been added to the closed meeting scheduled for Wednesday, May 1, 2002:

Formal orders of investigations.

Commissioner Glassman, as duty officer, determined that Commission business required the above change and that no earlier notice thereof was possible.

For further information please contact the Office of the Secretary at (202) 942-7070.

Dated: April 30, 2002.
Margaret H. McFarland,
Deputy Secretary.

[FR Doc. 02-11093 Filed 4-30-02; 4:43 pm]

BILLING CODE 8010-01-P